DEPARTMENT OF VETERANS AFFAIRS

Privacy Act of 1974: System of Records

AGENCY: Department of Veterans Affairs (VA).

ACTION: Notice of establishment of a new system of records—Center for Acquisition and Materiel Management Education Online (CAMEO)—VA (111VA95E).

SUMMARY: The Privacy Act of 1974 (5 U.S.C. 552(e)(4)) requires that all agencies publish in the Federal Register a notice of the existence and character of their systems of records. Notice is hereby given that the Department of Veterans Affairs (VA) is establishing a new system of records entitled “Center for Acquisition and Materiel Management Education Online (CAMEO)—VA” (111VA95E).

DATES: Comments on this new system of records must be received no later than September 17, 2001. If no public comment is received, the new system will become effective September 17, 2001.

ADDRESSES: Mail or hand-deliver written comments concerning the proposed new system of records to: Director, Office of Regulations Management (02D), Department of Veterans Affairs, 810 Vermont Avenue, NW, Washington, DC 20420; or fax comments to (202) 273-9289; or e-mail comments to OGCRegulations@mail.va.gov. Comments should indicate that they are submitted in response to “111VA95E.” All comments received will be available for public inspection in the Office of Regulations Management, Room 1158, between the hours of 8 a.m. and 4:30 p.m., Monday through Friday (except holidays).

FOR FURTHER INFORMATION CONTACT: Emily Sherman (95E), Office of Acquisition and Materiel Management, Department of Veterans Affairs, 810 Vermont Avenue, NW, Washington, DC 20420; telephone (202) 273-6083.

SUPPLEMENTARY INFORMATION: The VA Office of Acquisition and Materiel Management (OA&MM) is responsible for overseeing the acquisition, storage, and distribution of supplies, services, and equipment used by VA facilities. OA&MM is the primary source of acquisition and materiel management training to approximately 6,000 VA employees. VA's acquisition and materiel management employees are geographically dispersed throughout the United States, the Commonwealth of Puerto Rico, and the Republic of the Philippines.

OA&MM's two training organizations, the Acquisition Training and Career Development Division (AT&CD) (95E) and the Materiel Policy, Training, and Operations Division (MPT&OD) (92), are responsible for management of the training and career development programs for VA's acquisition and materiel management work force. AT&CD and MPT&OD staff schedule courses, allocate funds and class slots for VA acquisition and materiel management staff, and maintain records of training. In addition, AT&CD staff will be responsible for maintaining the central, VA-wide acquisition work force training database required by Office of Federal Procurement Policy (OFPP) Policy Letter 97-01, “Procurement System Education, Training and Experience Requirements for Acquisition Personnel.”

VA's database will be titled “Center for Acquisition and Materiel Management Education Online (CAMEO)—VA” and is the subject of this notice. The purpose of CAMEO is to collect and maintain training and education data for VA's acquisition and materiel management work force. Once developed, the database will electronically interface with the Government-wide acquisition work force management information system, entitled “Acquisition Career Management Information System (ACMIS).” ACMIS is being developed by OFPP in response to a statutory mandate at 41 U.S.C. 433(d)—“The Administrator shall ensure that the heads of executive agencies collect and maintain standardized information on the acquisition work force related to implementation of [Section 37 of the OFPP Act]. To the maximum extent practicable, such data requirements shall conform to standards established by the Office of Personnel Management for the Central Personnel Data File.” The Privacy Act Notice of Establishment of a New System of Records for ACMIS, GSA/OAP-2, was published by the General Services Administration in the Federal Register on November 6, 2000 (65 FR 66544).

VA is proposing to establish the following routine use disclosures of the information that will be maintained in the system:

1. Disclosure may be made to a Congressional office from the record of an individual in response to an inquiry from the Congressional office made at the request of that individual.

Individuals sometimes request the help of a Member of Congress in resolving some issue relating to a matter before VA. The Member of Congress then writes VA, and VA must be able to give sufficient information to be responsive to the inquiry.

2. Disclosure may be made to the National Archives and Records Administration (NARA) in records management inspections conducted under the authority of Title 44 U.S.C.

NARA is responsible for archiving old records no longer actively used, but which may be appropriate for preservation; they are responsible in general for the physical maintenance of the Federal Government's records. VA must be able to turn records over to NARA in order to determine the proper disposition of such records.

3. Records from this system of records may be disclosed to the Department of Justice (DOJ) or in a proceeding before a court, adjudicative body, or other administrative body before which the Agency is authorized to appear when: (1) The Agency, or any component thereof; (2) any employee of the Agency in his or her official capacity, where DOJ or the Agency has agreed to represent the employee; or (3) the United States, when the Agency determines that litigation is likely to affect the Agency or any of its components; is a party to litigation, and has an interest in such litigation, and the use of such records by DOJ or the Agency is deemed by the Agency to be relevant and necessary to the litigation, provided, however, that the disclosure is compatible with the purpose for which the records were collected.

Whenever VA is involved in litigation, or occasionally when another party is involved in litigation and VA policies or operations could be affected by the outcome of the litigation, VA would be able to disclose information to the court or parties involved. A determination would be made in each instance that, under the circumstances involved, the purpose served by use of the information in the particular litigation is compatible with a purpose for which VA collects the information.

4. Disclosure of relevant information may be made to individuals, organizations, private or public agencies, or other entities with whom VA has a contract or agreement or where there is a subcontract to perform such services as VA may deem practicable for the purposes of laws administered by VA, in order for the contractor or subcontractor to perform the services of the contract or agreement.

VA must be able to provide information to contractors or subcontractors with whom VA has a contract or agreement in order to perform the services of the contract or agreement.

5. VA may disclose on its own initiative any information in this system that is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order.

VA must be able to comply with the requirements of agencies charged with enforcing the law and investigations of violations or possible violations of law. VA must also be able to provide information to Federal, State, local, tribal and foreign agencies charged with protecting the public health as set forth in law.

6. Disclosure may be made to an appeal, grievance, hearing, or complaints examiner; an equal employment opportunity investigator, arbitrator, or mediator; and an exclusive representative or other person authorized to investigate or settle a grievance, complaint, or appeal filed by an individual who is the subject of the record.

Whenever VA is involved in an appeal, grievance, or complaint, or occasionally when another party is involved and VA policies or operations could be affected by the outcome, VA would be able to disclose information to the examiner or other official or parties involved. A determination would be made in each instance that, under the circumstances involved, the purpose served by use of the information is compatible with a purpose for which VA collects the information. The information may be needed by the examiner or investigator in order to resolve a grievance. Inability to release the data may have a negative impact on the individual filing the grievance.

7. Disclosure may be made to the Office of Personnel Management (OPM), the Office of Management and Budget (OMB), and the General Accounting Office (GAO) in order for them to perform their responsibilities for evaluating Federal programs.

VA must be able to provide information to these agencies in order for them to carry out their responsibilities for evaluating Federal programs.

8. Disclosure may be made to a requesting Federal agency for that agency's use in connection with the hiring, retaining or promotion of an employee where the information is relevant and necessary for the decision.

VA must be able to provide information to Federal agencies in order to assist them in determining the qualifications of an individual seeking employment.

9. Information may be disclosed to officials of labor organizations recognized under 5 U.S.C. Chapter 71, when relevant and necessary to their duties of exclusive representation concerning personnel policies, practices, and matters affecting working conditions.

VA must be able to disclose information to officials of labor organizations to assist them in fulfilling their responsibilities in representing employees.

10. Information may be disclosed to officials of the Merit Systems Protection Board or the Office of the Special Counsel when requested in connection with appeals, special studies of the civil service and other merit systems, review of rules and regulations, investigation of alleged or possible prohibited personnel practices, and such other functions, promulgated in 5 U.S.C. 1205 and 1206, or as may be authorized by law.

VA must be able to disclose information to these agencies to assist them in fulfilling their responsibilities.

11. Information may be disclosed to the Equal Employment Opportunity Commission when requested in connection with investigations of alleged or possible discriminatory practices, examination of Federal affirmative employment programs, or for other functions of the Commission as authorized by law.

VA must be able to disclose information to the Commission in order for it to fulfill its responsibilities to protect employee rights.

12. Information may be disclosed to the Federal Labor Relations Authority (including its General Counsel) when appropriate jurisdiction has been established and the information has been requested in connection with the investigation and resolution of allegations of unfair labor practices or in connection with the resolution of exceptions to arbitration awards when a question of material fact is raised; and to the Federal Service Impasses Panel in matters they are considering.

VA must be able to disclose information to these agencies in order for them to fulfill their responsibilities.

The system of records will not contain information identifying individuals as veterans, and consequently, the limitations on disclosures of the names and home addresses of veterans and their dependents that are normally in Routine Use No. 5 in other VA systems of records are not necessary here and consequently have not been included in this Notice.

The notice of intent to publish and an advance copy of the system notice have been sent to the appropriate Congressional committees and to the Director of the Office of Management and Budget (OMB) as required by 5 U.S.C. 552a(r) (Privacy Act) and guidelines issued by OMB on December 12, 2000 (65 FR 77677).

Approved: August 2, 2001.
Anthony J. Principi,
Secretary of Veterans Affairs.

111VA95E

System Name:

Center for Acquisition and Materiel Management Education Online (CAMEO)—VA.

System Location:

The system is maintained for the Department of Veterans Affairs (VA) under contract. Records are located at the contractor's facility, currently Meridian Knowledge Solutions, Inc., 4465 Brookfield Corporate Drive, Suite 201, Chantilly, VA 20151. In addition, information from these records or copies of the records may be maintained at the Department of Veterans Affairs, Office of Acquisition and Materiel Management, 810 Vermont Avenue, NW, Washington, DC 20420.

Categories of Individuals Covered by the System:

The records include information concerning VA employees who work in acquisition, contracting, and materiel management positions, including personnel in the 1100 occupational series, contracting officers, contracting officers' technical representatives, and other employees performing acquisition, contracting, procurement, and materiel management functions.

Categories of Records in the System:

The system will contain information needed for enhancing training opportunities of VA employees in the Federal acquisition and materiel management work force. Records include, but are not limited to: (1) Biographical data such as name, social security number, and educational level; (2) work-related data such as duty station, occupational series and grade, supervisor's name, and contracting officer warrant information; (3) educational qualifications such as degrees from accredited universities or colleges and business credits completed; and (4) training information such as completed acquisition core courses and total continuing education hours for the previous and current fiscal year.

Authority for Maintenance of the System:

Title 38, United States Code (U.S.C.), section 501, and section 37 of the Office of Federal Procurement Policy Act (41 U.S.C. 433).

Purpose(s):

The records and information will be used to enhance training opportunities of VA employees in acquisition and materiel management occupations; to ensure that employees meet training requirements; and to document the training received. The system will provide management and employees up-to-date information on employee certification levels, qualification standards, academic degrees, mandatory and other pertinent training, and contracting officer warrant status.

Routine Uses of Records Maintained in the System, Including Categories of Users and the Purposes of Such Uses:

1. Disclosure may be made to a Congressional office from the record of an individual in response to an inquiry from the Congressional office made at the request of that individual.

2. Disclosure may be made to the National Archives and Records Administration (NARA) in records management inspections conducted under the authority of Title 44 U.S.C.

3. Records from this system of records may be disclosed to the Department of Justice (DOJ) or in a proceeding before a court, adjudicative body, or other administrative body before which the Agency is authorized to appear when: (1) The Agency, or any component thereof; (2) any employee of the Agency in his or her official capacity, where DOJ or the Agency has agreed to represent the employee; or (3) the United States, when the Agency determines that litigation is likely to affect the Agency or any of its components; is a party to litigation, and has an interest in such litigation, and the use of such records by DOJ or the Agency is deemed by the Agency to be relevant and necessary to the litigation, provided, however, that the disclosure is compatible with the purpose for which the records were collected.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in this system that is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order.

6. Disclosure may be made to an appeal, grievance, hearing, or complaints examiner; an equal employment opportunity investigator, arbitrator, or mediator; and an exclusive representative or other person authorized to investigate or settle a grievance, complaint, or appeal filed by an individual who is the subject of the record.

7. Disclosure may be made to the Office of Personnel Management (OPM), the Office of Management and Budget (OMB), and the General Accounting Office (GAO) in order for them to perform their responsibilities for evaluating Federal programs.

8. Disclosure may be made to a requesting Federal agency for that agency's use in connection with the hiring, retaining or promotion of an employee where the information is relevant and necessary for the decision.

9. Information may be disclosed to officials of labor organizations recognized under 5 U.S.C. Chapter 71, when relevant and necessary to their duties of exclusive representation concerning personnel policies, practices, and matters affecting working conditions.

10. Information may be disclosed to officials of the Merit Systems Protection Board or the Office of the Special Counsel when requested in connection with appeals, special studies of the civil service and other merit systems, review of rules and regulations, investigation of alleged or possible prohibited personnel practices, and such other functions, promulgated in 5 U.S.C. 1205 and 1206, or as may be authorized by law.

11. Information may be disclosed to the Equal Employment Opportunity Commission when requested in connection with investigations of alleged or possible discriminatory practices, examination of Federal affirmative employment programs, or for other functions of the Commission as authorized by law.

12. Information may be disclosed to the Federal Labor Relations Authority (including its General Counsel) when appropriate jurisdiction has been established and the information has been requested in connection with the investigation and resolution of allegations of unfair labor practices or in connection with the resolution of exceptions to arbitration awards when a question of material fact is raised; and to the Federal Service Impasses Panel in matters they are considering.

Policies and Practices for Storing, Retrieving, Accessing, Retaining, and Disposing of Records in the System

Storage:

Records are maintained on paper and electronic storage media, including magnetic tape and magnetic disk media.

Retrievability:

Records are retrieved by name, social security number or other assigned identifiers of the individuals on whom the records are maintained.

Safeguards:

1. Access to VA working and storage areas is restricted to VA employees on a “need-to-know” basis. Strict control measures are enforced to ensure that disclosure to these individuals is also based on this same principle. Generally, VA file areas are locked after normal duty hours and the facilities are protected from outside access by the Federal Protective Service or other security personnel.

2. Access to computer rooms at VA Central Office and health care facilities is generally limited by appropriate locking devices and restricted to authorized VA employees and vendor personnel. ADP peripheral devices are placed in secure areas (areas that are locked or have limited access) or are otherwise protected.

3. Access to the contractor's computer rooms is restricted to authorized vendor employees through electronic locking devices. Information stored in the CAMEO system may be accessed by authorized VA employees at remote locations, including VA health care facilities and VA Central Office. Access is controlled by individually unique passwords/codes that must be changed periodically by the employee or the appropriate designated personnel. The database is maintained by the contractor behind a firewall that has been certified by the National Computer Security Association.

Retention and Disposal:

Paper records and electronic storage media are maintained and disposed of in accordance with records disposition authority approved by the Archivist of the United States.

System Manager(S) and Address:

Official responsible for policies and procedures: Chief, Acquisition Training and Career Development Division (95E), Office of Acquisition and Materiel Management (90), Department of Veterans Affairs, 810 Vermont Avenue, NW., Washington, DC 20420.

Notification Procedure:

Individuals who wish to determine whether this system of records contains information about them should contact the System Manager at the above address. Inquiries should include the person's full name, social security number, dates of employment, date(s) of contact, and return address.

Record Access Procedure:

Individuals seeking information regarding access to and/or contesting the records in this system may write, call or visit the VA facility location where they are or were employed.

Contesting Record Procedures:

See Record Access Procedures above.

Record Source Categories:

Information in this system of records is provided:

1. By individuals on whom the record is maintained.

2. By supervisors and managers.

3. By other agency officials.

4. By accredited colleges or universities.

5. By related correspondence.

6. By other agency records.

[FR Doc. 01-20600 Filed 8-15-01; 8:45 am]

BILLING CODE 8320-01-P